DEPARTMENT OF COMMERCE

Foreign-Trade Zones Board

(Docket 42-2005)

Foreign-Trade Zone 204, Tri-Cities Area, TN/VA, Request for Manufacturing Authority (Fractional Horsepower Electric Motors)

An application has been submitted to the Foreign-Trade Zones Board (the Board) by the Tri-Cities Airport Commission, grantee of FTZ 204, requesting authority on behalf of Electro Motor, LLC for the manufacture of fractional horsepower electric motors under FTZ procedures within Site 5 of FTZ 204 in Piney Flats, Tennessee. The application was submitted pursuant to the provisions of the Foreign-Trade Zones Act, as amended (19 U.S.C. 81a-81u), and the regulations of the Board (15 CFR part 400). It was formally filed on August 19, 2005.

Electro Motor operates a manufacturing facility (23 employees) within Site 5 of FTZ 204 for the manufacture of fractional horsepower electric motors, with a capacity of 800,000 motors annually. The company's application indicates that the finished products would enter the United States at a duty rate of 3.3 percent ad valorem. Imported inputs are projected to comprise approximately 50 percent of the value of finished products produced under FTZ procedures. Electro Motor indicates that the foreign inputs that may be admitted under FTZ procedures are unwound motor assemblies (HTSUS category 8501.32) and motor parts (8503.00). Duty rates on the proposed imported components currently range from 2.4 to 6.5 percent.

This application requests authority to allow Electro Motor to conduct the activity under FTZ procedures, which would exempt the company from Customs duty payments on the foreign components used in export activity. On its domestic sales, the company would be able to choose the duty rate that applies to finished products for the foreign components noted above. The application also indicates that the company will derive savings from deferral of duty on imported components used in production of the finished products, simplification and expediting of the company's import and export procedures, and duty savings on scrap/waste. Electro Motor's application indicates that the above-cited savings from zone procedures could help improve the company's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign- Trade-Zones Board, U.S. Department of Commerce, Franklin Court Building--Suite 4100W, 1099 14th St. NW., Washington, DC 20005; or

2. Submissions Via the U.S. Postal Service: Foreign-Trade-Zones Board, U.S. Department of Commerce, FCB--Suite 4100W, 1401 Constitution Ave. NW., Washington, DC 20230.

The closing period for their receipt is October 31, 2005. Rebuttal comments in response to material submitted during the foregoing period may be submitted during the subsequent 15-day period to November 14, 2005.

A copy of the application and accompanying exhibits will be available for public inspection at the Office of the Foreign-Trade Zones Board's Executive Secretary at the first address listed above, and at Tri-City Regional Airport, Room 306, State Highway 75, Blountville, TN 37617.

Dated: August 22, 2005.
Dennis Puccinelli,
Executive Secretary.

[FR Doc. 05-17230 Filed 8-29-05; 8:45 am]

Billing Code: 3510-DS-S